DEPARTMENT OF AGRICULTURE

Agricultural Marketing Service

[Doc. No. FV-04-303]

United States Standards for Grades of Field Grown Leaf Lettuce

AGENCY: Agricultural Marketing Service, USDA.

ACTION: Notice; request for public comment.

SUMMARY: The Agricultural Marketing Service (AMS) of the Department of Agriculture (USDA) is soliciting comments on its proposal to create a new voluntary U.S. Standard for Grades of Field Grown Leaf Lettuce. This action is being taken at the request of the Fruit and Vegetable Industry Advisory Committee, which asked AMS to identify commodities that needed grade standards developed to facilitate commerce. The proposed standards would provide industry with a common language and uniform basis for trading, thus promoting the orderly and efficient marketing of field grown leaf lettuce.

DATES: Comments must be received by May 23, 2005.

ADDRESSES: Interested persons are invited to submit written comments to the Standardization Section, Fresh Products Branch, Fruit and Vegetable Programs, Agricultural Marketing Service, U.S. Department of Agriculture, 1400 Independence Ave., SW., Room 1661, South Building, Stop 0240, Washington, DC 20250-0240, fax (202) 720-8871, e-mail FPB.DocketClerk@usda.gov. Comments should make reference to the dates and page number of this issue of the Federal Register and will be made available for public inspection in the above office during regular business hours.

The proposed U.S. Standards for Grades of Field Grown Leaf Lettuce are available either from the above address or the Fresh Products Branch Federal Register notices page at: http://www.ams.usda.gov/fv/fpbdocketlist.htm.

FOR FURTHER INFORMATION CONTACT: David L. Priester, at the above address or call (202) 720-2185, e-mail David.Priester@usda.gov.

SUPPLEMENTARY INFORMATION: Section 203(c) of the Agricultural Marketing Act of 1946 (7 U.S.C. 1621-1627), as amended, directs and authorizes the Secretary of Agriculture “to develop and improve standards of quality, condition, quantity, grade and packaging and recommend and demonstrate such standards in order to encourage uniformity and consistency in commercial practices * * *.” AMS is committed to carrying out this authority in a manner that facilitates the marketing of agricultural commodities and makes copies of official standards available upon request. The United States Standards for Grades of Fruits and Vegetables that are not requirements of Federal Marketing Orders or U.S. Import Requirements, no longer appear in the Code of Federal Regulations, but are maintained by USDA, AMS, Fruit and Vegetable Programs.

AMS is proposing to establish voluntary U.S. Standards for Grades of Field Grown Leaf Lettuce using the procedures that appear in part 36 title 7 of the Code of Federal Regulations (7 CFR part 36).

Background

AMS previously published a notice in the Federal Register (68 FR 68858), on December 10, 2003, soliciting comments on the possible development of U.S. Standards for Grades of Field Grown Leaf Lettuce. One comment was received from a fruit and vegetable trade association with 3,000 members. The commenter surveyed its members and found that there was no clear consensus to support development of the standards. However, the commenter noted that many of its members were of the view that it was important to establish new standards. Based on the comments received and information gathered, AMS has developed proposed grade standards for field grown leaf lettuce. This proposal would establish the following grades, as well as a tolerance for each grade: U.S. Fancy, U.S. No. 1 and U.S. No. 2. In addition, there are proposed “Tolerances,” “Application of Tolerances” and “Size” sections. AMS is proposing to define “Injury,” “Damage,” and “Serious Damage,” along with specific basic requirements and definitions for defects. AMS is soliciting comments on the proposed U.S. Standards for Grades of Field Grown Leaf Lettuce and the probable impact on growers, processors, and distributors.

Production figures have shown a steady increase in the consumption of field grown leaf lettuce over the past 10 years. Many members of the Western Growers Association, a trade association that represents over one half of the nation's fresh produce production, as well as the Fruit and Vegetable Industry Advisory Committee have expressed the need for U.S. standards for field grown leaf lettuce, which would provide a uniform basis for trading.

The adoption of these proposed standards would provide the field grown leaf lettuce industry with U.S. grade standards similar to those extensively in use by the fresh produce industry to assist in orderly marketing of other commodities.

Authority: 7 U.S.C. 1621-1627.

Dated: March 18, 2005.
Kenneth C. Clayton,
Acting Administrator, Agricultural Marketing Service.

[FR Doc. 05-5813 Filed 3-23-05; 8:45 am]

BILLING CODE 3410-02-P